DEPARTMENT OF STATE

[Public Notice: 12762]

Revocation of the Foreign Terrorist Organization Designation of al-Nusrah Front, Also Known as Hay'at Tahrir al-Sham

In consultation with the Attorney General and the Secretary of the Treasury, I hereby revoke the designation of al-Nusrah Front, also known as Hay'at Tahrir al-Sham (and other aliases) as a Foreign Terrorist Organization pursuant to section 219(a)(6)(A) of the Immigration and Nationality Act (8 U.S.C. 1189(a)(6)(A)).

This determination shall be published in the Federal Register. The revocation goes into effect upon publication.

Dated: June 23, 2025.
Marco Rubio,
Secretary of State.

[FR Doc. 2025-12720 Filed 7-7-25; 8:45 am]

BILLING CODE 4710-AD-P